DEPARTMENT OF THE INTERIOR

National Park Service

Quarry Visitor Center Final Environmental Impact Statement, Dinosaur National Monument, Colorado and Utah

AGENCY: National Park Service, Department of the Interior.

ACTION: Notice of Availability of the Final Environmental Impact Statement for the Quarry Visitor Center, Dinosaur National Monument.

SUMMARY: Pursuant to the National Environmental Policy Act of 1969, 42 U.S.C. 4332(2) (C), the National Park Service announces the availability of a Final Environmental Impact Statement for the Quarry Visitor Center at Dinosaur National Monument, Colorado and Utah.

SUPPLEMENTARY INFORMATION: Five alternatives were evaluated in the environmental impact statement. These include: Alternative A, No Action—Continue Current Management; Alternative B, the Preferred Alternative—Rehabilitate or Replace the Exhibit Hall and Construct a New Facility Off-Site; Alternative C—Retain the Exhibit Hall and Construct a New Facility at the Quarry Visitor Center Site; Alternative D—Retain the Exhibit Hall and Construct Wings Similar to Existing Facility; Alternative E—Demolish the Entire Facility and Construct a New Facility at the Quarry Visitor Center Site. The preferred alternative would provide for a shelter and interpretive area at the fossil wall, either by rehabilitating the existing 10,800-square-foot Exhibit Hall or constructing a new structure to provide opportunities for visitors to view the dinosaur bones in situ. This alternative would minimize facilities at the Quarry Visitor Center site and allow new interpretive experiences to be developed and showcased at a new location where soils are more stable.

DATES: The National Park Service will execute a Record of Decision (ROD) no sooner than 30 days following publication by the Environmental Protection Agency of the Notice of Availability of the Final Environmental Impact Statement.

ADDRESSES: Information on the final Environmental Impact Statement will be available online at http://parkplanning.nps.gov, in the office of the Superintendent, Mary Risser, 4545 E. Highway 40, Dinosaur, CO, 81610-9724, (970) 374-3001, and the following locations: The Moffat County Library, 570 Green St., Craig, CO., 81625 and the Uintah County Library, 155 East Main, Vernal, UT, 84078.

FOR FURTHER INFORMATION CONTACT: Mary Risser, 4545 E. Highway 40, Dinosaur, CO., 81610-9724 (970) 374-3001, Mary_Risser@nps.gov.

Dated: January 25, 2008.
Michael D. Snyder,
Director, Intermountain Region, National Park Service.

[FR Doc. E8-6269 Filed 3-26-08; 8:45 am]

BILLING CODE 4312-CR-P